DEPARTMENT OF LABOR

Employment and Training Administration

Proposed Collection; Comment Request

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment and Training Administration (ETA) is soliciting comments concerning the proposed two year extension of the Employment Service Complaint Referral Record, ETA-8429 and the Services to Migrant and Seasonal Farm Workers Report, ETA-5148 from the current end date of September 30, 2000 to a new end date of September 30, 2002.

A copy of the previously approved information collection request (ICR) can be obtained by contacting the office listed below in the ADDRESSES section of this notice.

DATES: Written comments must be submitted to the office listed in the ADDRESSES section below on or before May 16, 2000.

ADDRESSES: Eric Johnson, Office of Workforce Security, Office of Career Transition Assistance, 200 Constitution Avenue NW., Room S-4321, Washington, DC 20210, (202-219-0316—not a toll free number) and internet address: ejohnson@doleta gov and/or Fax: (202-219-8506).

SUPPLEMENTARY INFORMATION:

I. Background.

As part of the settlement in the case of NAACP v. Secretary of Labor (Civil Action No. 2010-72, U.S.D.C.), the U.S. Department of Labor (DOL) negotiated with the plaintiffs a series of regulations published June 10, 1980. Employment and Training Administration (ETA) regulations at 20 CFR 651, 653 and 658 under the Wagner-Peyser Act, as amended by the Workforce Investment Act of 1998, set forth the role and responsibilities of the United States Employment Service (USES) and the State Employment Security Agencies (SESAs) regarding compliance of said regulations.

In compliance with 20 CFR 653.109, DOL establishing record keeping requirements to allow for the efficient and effective monitoring of SESAs regulatory compliance.

The ETA Form 8429, Employment Service Complaint Referral Record, is used to collect and document all individual complaints filed under the Employment Service complaint system.

The ETA Form 5148, Services to Migrant and Seasonal Farm Workers Report, is used to collect data which are primarily used to monitor and to measure the extent and effectiveness of Employment Service (ES) services to migrant and seasonal farm workers as a high priority target group for ES services.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This is a request for OMB approval under the Paperwork Reduction Act of 1995 (PRA95) (44 U.S.C. 3506(c)(2)(A) to extend collection of the Employment Service Complaint Referral Record, ETA-8429 and the Services to Migrant and Seasonal Farm Workers Report, ETA-5148 from a current end date of September 30, 2000 to a new end date of September 30, 2002.

Type of Review: Extension without charge.

Agency: Employment and Training Administration.

Title: Employment Service Complaint Referral Record, ETA-8429, Services to Migrant and Seasonal Farm Workers Report, ETA-5148.

OMB Number: 1205-0039.

Frequency: Quarterly and on occasion, respectively.

Affected Public: State governments.

Total Respondents: 208.

Estimated Cost Per Respondent: No cost to respondent.

Estimated Burden Hours: 5530.

Complaint Log Maintenance

1. Record keeping

Number of record-keepers 168

Annual hours per record-keeper 6.3

Record-keepers Hours 1,059

2. Processing ETA 8429

Annual number of forms 2,520

Minutes per form 8

Processing hours 327

Outreach Log

1. Record keeping

Number of record-keepers—150

Annual hours per record-keeper—26

Record-keepers hours—3,900

2. Data Collection/Reporting ETA—5148

Annual number of reports—208

Minutes per report—70

Record keeping hours—244

Comments submitted in response to this comment request will be summarized and/or included in the request for Office of Management and Budget approval of the information collection request; they will also become a matter of public record.

Dated: March 14, 2000.
Grace A. Kilbane,
Administrator, Office of Workforce Security.

[FR Doc. 00-6660 Filed 3-16-00; 8:45 am]

BILLING CODE 4510-30-M